DEPARTMENT OF HEALTH AND HUMAN SERVICES

National Institutes of Health

Request for Information (RFI): Inviting Feedback on the NIH Office of Disease Prevention Strategic Plan for Fiscal Years 2024-2028

AGENCY: National Institutes of Health, HHS.

ACTION: Notice.

SUMMARY: The National Institutes of Health (NIH), Office of the Director, Office of Disease Prevention (ODP) is requesting public comment on its draft strategic plan for Fiscal Years 2024-2028 (FY24-28), Prevention Research: Creating a Healthier Future for All. ODP invites feedback on its proposed priorities from prevention researchers in academia and industry, health care providers, patient advocacy organizations, community-based organizations, health service organizations, scientific or professional organizations, trainees and early-stage investigators, federal agencies, those employed by NIH or at institutions receiving NIH support, and the general public. Organizations are strongly encouraged to submit a single response that reflects the views of the organization and membership as a whole.

DATES: ODP's RFI is open for public comment through May 22, 2023. Responses must be received by 11:59 p.m. ET on May 22, 2023, to ensure consideration.

ADDRESSES: All comments must be submitted electronically on the submission website available at https://rfi.grants.nih.gov/?s=63d9edb46e8d6ea804099132.

FOR FURTHER INFORMATION CONTACT: Please direct all inquiries to Wilma Peterman Cross; ODP, NIH; Phone: 301-827-5561; email: prevention@nih.gov.

SUPPLEMENTARY INFORMATION: This notice is in accordance with the 21st Century Cures Act, wherein NIH institutes are required to regularly update their strategic plans. ODP was established in the NIH Office of the Director in 1986. In accordance with 42 U.S.C. 282(f) of the Public Health Service Act, as amended, the mission of ODP is to improve public health by increasing the scope, quality, dissemination, and impact of prevention research supported by NIH. ODP fulfills this mission by providing leadership for the development, coordination, and implementation of prevention research in collaboration with NIH Institutes, Centers, and Offices, and other partners. The office has made considerable progress (https://prevention.nih.gov/about-odp/strategic-plan/spotlight-progress) on the priorities identified in our strategic plan for FY19-23 (https://prevention.nih.gov/about-odp/strategic-plan-2019-2023), and ODP remains committed to playing an integral role in enhancing prevention-related activities across NIH as well as serving as a partner with its federal colleagues.

Input received from this RFI will inform the development of the final ODP FY24-28 Strategic Plan, Prevention Research: Creating a Healthier Future for All, which will outline activities coordinated by the office to assess, facilitate, and stimulate research in disease prevention, and disseminate the results of this research to improve public health.

The definition of prevention research that ODP uses to guide its work and decision-making covers research designed to identify and assess risk, and to develop and test interventions to prevent or reduce harmful behaviors and exposures, disease onset, or disease progression. Prevention research spans all diseases and conditions, populations, and phases of life.

Specifically, ODP focuses on primary and secondary prevention research in humans.

• Primary prevention research includes research designed to promote health; identify risk factors for developing a new health condition (e.g., disease, disorder, injury); and prevent the onset of a new health condition.

• Secondary prevention research includes research designed to identify risk factors for the progression or recurrence of a health condition, and to detect and prevent progression of an asymptomatic or early-stage condition.

Prevention research targets biology, behaviors, factors in the social and physical environments, and health services. It also informs and evaluates health-related policies and regulations. Examples of prevention research include studies that:

• Identify and assess risk and protective factors

• Screen and identify individuals and groups at risk

• Develop and evaluate interventions to reduce risk

• Translate, implement, and disseminate effective preventive interventions into practice

• Develop methods to support prevention research

ODP's strategic priorities are intentionally not specific to any given disease because prevention research is relevant to all health conditions and to promoting health in everyone; NIH's Institutes and Centers serve as the best place for disease-specific or condition-specific research. As a coordinating office in the Division of Program Coordination, Planning, and Strategic Initiatives within the NIH Office of the Director, ODP is best positioned to identify important research gaps, fostering collaborations across NIH and with federal partners, and promoting rigorous research practices.

Request for Information

ODP is seeking feedback on these draft strategic priorities:

1. Systematically monitor NIH investments in prevention research and the progress and results of that research.

2. Identify prevention research areas for investment or expanded effort by NIH.

3. Promote the use of the best available methods in prevention research and support the development of better methods.

4. Promote collaborative prevention research projects and facilitate coordination of such projects across NIH and with other public and private entities.

5. Advance tobacco regulatory and prevention science.

6. Promote and coordinate prevention research that addresses health disparities.

7. Improve the availability and visibility of information about prevention research, inform diverse audiences about the scope and impact of disease prevention research, and engage with ODP's partners to enhance and support ODP's mission.

ODP is also seeking feedback on areas where targeted efforts by ODP could help accelerate prevention research.

How To Submit a Response

All responses to this RFI must be submitted electronically on the RFI submission website at https://rfi.grants.nih.gov/?s=63d9edb46e8d6ea804099132.

Responses must be received by May 22, 2023, at 11:59 p.m. ET. You will see an electronic confirmation acknowledging receipt of your response.

Responses to this RFI are voluntary and may be submitted anonymously. You may voluntarily include your name and contact information with your response. If you choose to provide NIH with this information, NIH will not share your name and contact information outside of NIH unless required by law.

Other than your name and contact information, please do not include any personally identifiable information or any information that you do not wish to make public. Proprietary, classified, confidential, or sensitive information should not be included in your response. The government will use the information submitted in response to this RFI at its discretion. Other than your name and contact information, the government reserves the right to use any submitted information on public websites; in reports; in summaries of the state of the science; in any possible resultant solicitation(s), grant(s), or cooperative agreement(s); or in the development of future funding opportunities.

This RFI is for informational and planning purposes only and is not a solicitation for applications or an obligation on the part of the government to provide support for any ideas identified in response to it. Please note that the government will not pay for the preparation of any information submitted or for use of that information.

Dated: April 10, 2023.
Tara A. Schwetz,
Acting Principal Deputy Director, National Institutes of Health.

[FR Doc. 2023-08044 Filed 4-14-23; 8:45 am]

BILLING CODE 4140-01-P